NATIONAL SCIENCE FOUNDATION

Special Emphasis Panel in Geosciences; Notice of Meeting

In accordance with the Federal Advisory Committee Act (Pub. L. 92-463, as amended), the National Science Foundation announces the following meeting:

Name: Special Emphasis Panel in Geosciences (1756).

Date/Time: May 7-10, 2001, 8:00 a.m. to 5:00 p.m.

Place: Room 770, National Science Foundation, 4201 Wilson Blvd., Arlington, VA.

Type of Meeting: Closed.

Contact Person: Dr. David J. Verardo, Program Director, Paleoclimate Program, Room 775, Division of Atmospheric Sciences, National Science Foundation-4201 Wilson Blvd., Arlington, VA 22230, (703) 292-8518.

Purpose of Meeting: To provide advice and recommendations concerning proposals submitted to the National Science Foundation for financial support.

Agenda: To review and evaluate Earth System History (ESH) proposals as part of the selection process for awards.

Reason for Closing: The proposals being reviewed include information of a proprietary or confidential nature, including technical information; financial data, such as salaries; and personal information concerning individuals associated with the proposals. These matters are exempt under 5 U.S.C. 552b(c), (4) and (6) of the Government in the Sunshine Act.

Dated: April 10, 2001.
Susanne Bolton,
Committee Management Officer.

[FR Doc. 01-9209 Filed 4-12-01; 8:45 am]

BILLING CODE 7555-01-M